DEPARTMENT OF TRANSPORTATION

Federal Aviation Administration

[Docket No: FAA-2019-0195]

Deadline for Notification of Intent To Use the Airport Improvement Program Primary, Cargo, and Nonprimary Entitlement Funds Available to Date for Fiscal Year 2019

AGENCY: Federal Aviation Administration, Department of Transportation.

ACTION: Notice.

SUMMARY: The Federal Aviation Administration (FAA) announces May 1, 2019, as the deadline for each airport sponsor to notify the FAA whether or not it will use its fiscal year 2019 entitlement funds (also referred to as apportioned funds) to accomplish Airport Improvement Program (AIP) eligible projects that the airport sponsor previously identified through the Airports Capital Improvement Plan process during the preceding year.

FOR FURTHER INFORMATION CONTACT: James A. Johnson, Acting Director, Office of Airport Planning and Programming, APP-1, at (202) 267-8775.

SUPPLEMENTARY INFORMATION: Title 49 U.S.C. 47105(f) provides that the sponsor of an airport for which entitlement funds are apportioned shall notify the Secretary, by such time and in a form as prescribed by the Secretary, of the airport sponsor's intent to submit a grant application for its available entitlement funds. Therefore, the FAA is hereby notifying such airport sponsors of the steps required to ensure that the FAA has sufficient time to carry over and convert remaining entitlement funds. In accordance with legislation enacted as of the date of this notice, the AIP has approximately $2.4 billion of entitlement funds available through September 30, 2019.

The airport sponsor's notification must address all entitlement funds available to date for fiscal year 2019, as well as any entitlement funds not obligated from prior years. On Monday, July 1, 2019, the FAA will carry over any currently available entitlement funds for which the airport sponsor has not notified the FAA of its intention to use, and these funds will not be available again until at least the beginning of fiscal year 2020. Under 49 U.S.C. 47114(d)(3)(C), airports having an unclassified status in the most recent National Plan of Integrate Airport Systems that accrue entitlement funds in fiscal year 2019, will only have these funds available in the same fiscal year and may not transfer the entitlements.

This notice applies to airports that have entitlement funds apportioned to them, except nonprimary airports located in designated Block Grant States. Airport sponsors intending to apply for any of their available entitlement funds, including those unused from prior years, shall make their intent known by 12:00 p.m. prevailing local time on Wednesday, May 1, 2019, consistent with prior practice.

This notice must address all entitlement funds available to date for fiscal year 2019, including those entitlement funds not obligated from prior years. A written indication stating the airport sponsor's intent to submit a grant application must be provided no later than close of business Friday, May 31, 2019. These notifications are critical to ensure efficient planning and administration of the AIP. The final grant application deadline is Friday, June 28, 2019.

All notifications and grant applications must be provided to the designated FAA Airports District Office (or Regional Office in regions without Airports District Offices). Absent notification of the intent to use entitlement funds, notification of the intent to submit a grant application, or submission of a grant application by the relevant deadlines noted above, the FAA will proceed on Monday, July 1, 2019 to carry-over the remainder of available entitlement funds. These funds will not be available again until at least the beginning of fiscal year 2020. Under 49 U.S.C. 47114(d)(3)(C), airports having an unclassified status in the most recent National Plan of Integrate Airport Systems that accrue entitlement funds in fiscal year 2019, will only have these funds available in the same fiscal year and may not transfer the entitlements.

Dates are subject to possible adjustment based on future legislation. As of the publication of this notice, appropriations for the FAA expire on September 30, 2019 and authorization legislation for the FAA expires on September 30, 2023. This notice is promulgated to expedite and facilitate the grant-making process.

The AIP grant program is operating under the requirements of Public Law 115-254, the “FAA Reauthorization Act of 2018,” enacted on October 5, 2018, which authorizes the FAA through September 30, 2023 and Public Law 116-6, the “Consolidated Appropriations Act, 2019,” which appropriates fiscal year 2019 funds for the AIP through September 30, 2019.

Issued in Washington, DC on March 13, 2019.
James A. Johnson,
Acting Director, Office of Airport Planning and Programming.

[FR Doc. 2019-05195 Filed 3-21-19; 8:45 am]

BILLING CODE 4910-13-P